DEPARTMENT OF COMMERCE

International Trade Administration

[A-351-824, A-823-805, A-570-828]

Silicomanganese from Brazil, Ukraine, and the People's Republic of China; Five-year Sunset Reviews of Antidumping Duty Orders; Final Results

AGENCY: Import Administration, International Trade Administration, Department of Commerce.

SUMMARY: On January 3, 2006, the Department of Commerce (the Department) initiated sunset reviews of the antidumping duty orders on silicomanganese from Brazil, Ukraine, and the People's Republic of China pursuant to section 751(c) of the Tariff Act of 1930, as amended (the Act). On the basis of the notice of intent to participate and adequate substantive responses filed on behalf of the sole domestic interested party and inadequate responses from respondent interested parties, the Department conducted expedited sunset reviews. As a result of these sunset reviews, the Department finds that revocation of the antidumping duty orders would be likely to lead to continuation or recurrence of dumping and the magnitude of the margins likely to prevail is set forth in the section entitled “Final Results of Reviews.”

EFFECTIVE DATE: May 9, 2006.

FOR FURTHER INFORMATION CONTACT: Zev Primor or Janis Kalnins, Office 5, AD/CVD Operations, Import Administration, International Trade Administration, U.S. Department of Commerce, 14th Street and Constitution Avenue, NW, Washington, DC, 20230; telephone: (202) 482-4114 or (202) 482-1392, respectively.

SUPPLEMENTARY INFORMATION:

Background

On January 3, 2006, the Department initiated sunset reviews of the antidumping duty orders on silicomanganese from Brazil, Ukraine, and the People's Republic of China pursuant to section 751(c) of the Act. See Initiation of Five-year (“Sunset”) Reviews, 71 FR 91 (January 3, 2006). The Department received a Notice of Intent to Participate from Eramet Marietta Inc. (Eramet) within the deadline specified in 19 CFR 351.218(d)(1)(i), (Sunset Regulations). Eramet claimed interested-party status under section 771(9)(C) of the Act as a manufacturer of a domestic like product in the United States. We received complete substantive responses from Eramet within the 30-day deadline specified in 19 CFR 351.218(d)(3)(i). In its substantive response, Eramet indicated that Elkem was the petitioner in the original investigation but that, since Eramet purchased Elkem's silicomanganese operations in 1999, it has participated actively in all administrative reviews and sunset reviews.

We did not receive substantive responses from any respondent interested parties in the sunset reviews of the antidumping duty orders on silicomanganese from Brazil, Ukraine, and the People's Republic of China. As a result, pursuant to section 751(c)(3)(B) of the Act and 19 CFR 351.218(e)(1)(ii)(C)(2), the Department conducted expedited sunset reviews of these orders.

Scope of the Orders

The merchandise covered by these orders is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. These orders cover all silicomanganese, regardless of its tariff classification. Although the HTSUS subheadings are provided for convenience and customs purposes, the written description of these orders remain dispositive.

Analysis of Comments Received

All issues raised in these cases are addressed in the “Issues and Decision Memorandum” from Stephen J. Claeys, Deputy Assistant Secretary for Import Administration, to David M. Spooner, Assistant Secretary for Import Administration, dated May 3, 2006 (Decision Memorandum), which is hereby adopted by this notice. The issues discussed in the Decision Memorandum include the likelihood of continuation or recurrence of dumping and the magnitude of the margins likely to prevail if the orders were revoked. Parties can find a complete discussion of all issues raised in these sunset reviews and the corresponding recommendations in this public memorandum, which is on file in the CRU, Room B-099 of the main Department building.

In addition, a complete version of the Decision Memorandum can be accessed directly on the Web at http://ia.ita.doc.gov. The paper copy and electronic version of the Decision Memorandum are identical in content.

Final Results of Reviews

We determine that revocation of the antidumping duty orders on silicomanganese from Brazil, Ukraine, and the People's Republic of China would likely lead to continuation or recurrence of dumping at the following percentage weighted-average margins:

Manufacturers/Exporters/Producers | Weighted-Average Margin (Percent)
Brazil
Rio Doce Manganês S.A. (RDM),
Companhia Paulista de Ferro-Ligas (CPFL),
and Urucum Mineração S.A. (Urucum)
(collectively RDM/CPFL) | 64.93
All Others | 17.60
Ukraine
All Manufacturers/Producers/Exporters | 163.00
The People's Republic of China
All Manufacturers/Producers/Exporters | 150.00

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: May 3, 2006.
David M. Spooner,
Assistant Secretary for Import Administration.

[FR Doc. E6-7044 Filed 5-8-06; 8:45 am]

BILLING CODE 3510-DS-S